BUREAU OF CONSUMER FINANCIAL PROTECTION

Establishment of the Consumer Advisory Board and Solicitation of Nominations for Membership

AGENCY: Bureau of Consumer Financial Protection.

ACTION: Notice.

SUMMARY: The Bureau of Consumer Financial Protection (the “Bureau”) announces the establishment of the Consumer Advisory Board (the “Board”), which will advise and consult with the Bureau in the exercise of the Bureau's functions under the Federal consumer financial protection laws, and which will provide information to the Bureau concerning emerging trends and practices in the financial services and products industry. This Notice seeks nominations for members to serve on the Board.

DATES: Nominations received on or before March 30, 2012 will be given consideration for membership on the Board.

ADDRESSES: All nominations for membership on the Board should be sent:

• Electronically: CABnominations@cfpb.gov. We strongly encourage electronic submissions.

• Mail: Monica Jackson/CAB Nominations, Consumer Financial Protection Bureau, 1500 Pennsylvania Avenue NW., (Attn: 1801 L Street), Washington, DC 20220.

• Hand Delivery/Courier in Lieu of Mail: Monica Jackson/CAB Nominations, Consumer Financial Protection Bureau, 1801 L Street NW., Washington, DC 20036.

FOR FURTHER INFORMATION CONTACT: Requests for additional information should be directed to Kimberly Miller, Consumer Financial Protection Bureau, (202) 435-7451.

SUPPLEMENTARY INFORMATION:

I. Background

The Bureau is charged with regulating “the offering and provision of consumer financial products or services under the Federal consumer financial laws,” so as to ensure that “all consumers have access to markets for consumer financial products and services and that markets for consumer financial products and services are fair, transparent, and competitive.” Pursuant to Section 1021(c) of the Wall Street Reform and Consumer Protection Act, Public Law 111-203 (the “Dodd-Frank Act”), the Bureau's primary functions are:

1. Conducting financial education programs;

2. Collecting, investigating, and responding to consumer complaints;

3. Collecting, researching, monitoring, and publishing information relevant to the function of markets for consumer financial products and services to identify risks to consumers and the proper functioning of such markets;

4. Supervising persons covered under the Dodd-Frank Act for compliance with Federal consumer financial law, and taking appropriate enforcement action to address violations of Federal consumer financial law;

5. Issuing rules, orders, and guidance implementing Federal consumer financial law; and

6. Performing such support activities as may be needed or useful to facilitate the other functions of the Bureau.

Section 1014 of the Dodd-Frank Act calls for the Director of the Bureau to establish a Consumer Advisory Board to advise and consult with the Bureau regarding its functions, and to provide information on emerging trends and practices in the consumer financial markets.

II. Establishment and Functions of the Consumer Advisory Board

The Board will be established when the Bureau approves a charter. The charter will be filed with the Director of the Bureau, furnished to the Library of Congress, and posted on the Bureau's Web site at www.consumerfinance.gov. The Bureau will send a copy of the charter to the Committee on Banking, Housing, and Urban Affairs of the United States Senate and the Committee on Financial Services of the United States House of Representatives.

As set forth in Section 1014(a) of the Dodd-Frank Act, the Board's objectives are to “advise and consult with the Bureau in the Bureau's exercise of its functions under the Federal consumer financial protection laws,” and to “provide information on emerging practices in the consumer financial products and services industry, including regional trends, concerns, and other relevant information.” The Board's charter will provide that the function of the Board is to be solely advisory. The Bureau alone will decide what action it will take and policy it will express with respect to the Federal consumer financial laws.

The Board will meet at such intervals as are necessary to carry out its functions, but not less than twice per year. Meetings of subgroups or subcommittees of the full Board established according to the terms of the charter may occur more frequently.

The Director will make appointments to the Board without regard to political affiliation. To achieve the Board's goals, not fewer than sixteen members will be appointed who can represent effectively the varied interests affected by the range of issues to be considered. The Board's membership will be balanced in terms of points of view represented and the functions to be performed. Section 1014(b) of the Dodd-Frank Act provides that “[n]ot fewer than 6 members shall be appointed upon the recommendation of the regional Federal Reserve Bank Presidents, on a rotating basis.”

Of the members appointed by the Director,

1. One-third shall be appointed to an initial one-year term;

2. One-third shall be appointed to an initial two-year term; and

3. One-third shall be appointed to an initial three-year term.

The length of a member's initial term will be determined by lottery. Each member appointed may seek to renew his or her appointment to the Board for a single, second term of three years, pursuant to the procedures outlined in the Board's charter. The members will serve at the pleasure of the Director from the date of appointment to the Board, not to exceed two terms. The Director will designate the Board Chair and Vice Chair. The Chair and Vice Chair will serve in those positions at the pleasure of the Director.

In accord with Section 1014(d) of the Dodd-Frank Act, members of the Board who are not full-time employees of the United States will receive compensation at a rate fixed by the Director while attending meetings of the Board, including reasonable travel and subsistence expenses while away from their homes or regular places of business. Wherever practical in terms of cost and logistics, the Bureau may hold meetings outside of the Washington, DC metropolitan area.

III. Qualifications

Pursuant to Section 1014(b) of the Dodd-Frank Act, in appointing members to the Board, “the Director shall seek to assemble experts in consumer protection, financial services, community development, fair lending and civil rights, and consumer financial products or services and representatives of depository institutions that primarily serve underserved communities, and representatives of communities that have been significantly impacted by higher-priced mortgage loans, and seek representation of the interests of covered persons and consumers, without regard to party affiliation.” The determinants of “expertise” shall depend, in part, on the constituency, interests, or industry sector the nominee seeks to represent, and where appropriate, shall include significant experience as a direct service provider to consumers.

The Bureau wishes to ensure adequate representation on the Board by women, minority groups, and individuals with disabilities and, therefore, encourages nominations of qualified candidates from these groups. The Bureau also wishes to establish a Board that is represented by a diversity of viewpoints and constituencies and, therefore, encourages nominations for qualified candidates who:

1. Represent the United States' geographic diversity; and

2. Represent the interests of special populations identified in the Dodd-Frank Act, including service members, older Americans, students, and traditionally underserved consumers and communities.

The Bureau will not entertain nominations of Federally registered lobbyists and individuals who have been convicted of a felony for a position on the Board.

IV. Nomination Procedures

Any interested person or organization may nominate a qualified candidate for membership on the Board. Nominations must include:

1. A letter describing the nominee's interests and qualifications to serve on the Board and including an indication that the nominee is willing to be considered for Board membership; and

2. A complete resume or curriculum vitae for the nominee.

CFPB does not request letters of recommendation and will not consider them. To evaluate potential sources of conflicts of interest, the Bureau may ask potential candidates to provide information related to financial holdings and/or professional affiliations, and to allow the Bureau to perform a background check.

The Bureau will not review nominations and will not answer questions from internal or external parties regarding nominations until the nominations period has closed.

Dated: February 17, 2012.
Meredith Fuchs,
Chief of Staff, Consumer Financial Protection Bureau.

[FR Doc. 2012-4240 Filed 2-22-12; 8:45 am]

BILLING CODE 4810-AM-P